Title 3—

The President

Proclamation 9845 of March 1, 2019

American Red Cross Month, 2019

By the President of the United States of America

A Proclamation

Guided by her passionate devotion to humanity, Clara Barton founded the American Red Cross in 1881 as a charitable organization to provide services to people in need. After 138 years, her historic legacy of selfless service still inspires hundreds of thousands of Americans to give their time, resources, and energy to help people in the United States and around the world, aiding those facing natural disasters, donating and supplying blood, and serving our military families. During American Red Cross Month, we recognize and honor the lifesaving work of the dedicated employees and volunteers of the American Red Cross, as well as the remarkable kindness of the American people who give so generously to this organization.

Each year, the American Red Cross provides care, relief, and comfort to Americans who are suffering from natural disasters. Just last year, massive wildfires and major hurricanes caused catastrophic damage, taking numerous lives and leaving communities scarred and families forever changed. In California alone, residents faced some of the most destructive wildfires in their State's history. Through all of these, thousands of American Red Cross volunteers mobilized to provide around-the-clock shelter for victims, work with government and community partners to serve millions of meals and snacks, and distribute other emergency supplies and relief items.

The American Red Cross also maintains a strong presence throughout the world. As part of the world's largest humanitarian network, the organization helps people in some of the most at-risk communities. Last year, the American Red Cross deployed emergency responders to disaster zones in 7 countries and sent humanitarian aid, including financial assistance and lifesaving supplies, to more than 18 countries. In the wake of emergencies and disasters, American Red Cross volunteers work tirelessly to ensure that those affected are able to receive the best possible help during the most challenging of times.

As the single largest supplier of blood products in the country, the American Red Cross is critical in processing, distributing, and ensuring the safety of our Nation's blood supply. Through its collection of more than 4.7 million blood donations and more than 900,000 platelet donations each year, the organization helps accident and burn victims, heart surgery patients, and those receiving cancer treatments. In the aftermath of the tragic shootings that occurred last year in Parkland, Florida; Santa Fe, Texas; Pittsburgh, Pennsylvania; and Thousand Oaks, California, the American Red Cross provided blood and blood products to the injured and wounded. Every year, nearly 2.7 million compassionate volunteer donors give blood and platelet donations that make these lifesaving services possible.

For more than a century, the American Red Cross has maintained a strong partnership with the brave men and women of our Armed Forces. Each day, the American Red Cross serves military personnel and veterans by providing 24/7 global emergency communication services and support in healthcare facilities across the country and around the globe. Since 2001, the American Red Cross has served more than one million military families, helping them cope with the challenges of deployment and supporting combat veterans as they return and transition back into civilian life.

President Herbert Hoover said: “The greater glory of the Red Cross belongs to the people themselves. It is a living embodiment of their heart and soul.” This month, we acknowledge the indispensable value of the American Red Cross, the numerous ways in which the organization's endeavors enhance the well-being of Americans and others worldwide, and the generosity of all those who support its important mission.

NOW, THEREFORE, I, DONALD J. TRUMP, President of the United States of America and Honorary Chairman of the American Red Cross, by virtue of the authority vested in me by the Constitution and the laws of the United States, do hereby proclaim March 2019 as American Red Cross Month. I encourage all Americans to observe this month with appropriate programs, ceremonies, and activities, and to support the work of the American Red Cross and their local chapters.

IN WITNESS WHEREOF, I have hereunto set my hand this first day of March, in the year of our Lord two thousand nineteen, and of the Independence of the United States of America the two hundred and forty-third.

[FR Doc. 2019-04201

Filed 3-5-19; 11:15 am]

Billing code 3295-F9-P